COMMISSION ON CIVIL RIGHTS

Notice of Public Briefing of the Guam Advisory Committee to the U.S. Commission on Civil Rights; Correction

AGENCY: Commission on Civil Rights.

ACTION: Notice; correction.

SUMMARY: The Commission on Civil Rights published a notice in the Federal Register on Tuesday, May 13, 2025, concerning a briefing of the Guam Advisory Committee. The briefing time has since changed to 8:00 a.m.-10:00 a.m. ChST (6:00 p.m.-8:00 p.m. ET).

FOR FURTHER INFORMATION CONTACT: Liliana Schiller, Support Services Specialist, at lschiller@usccr.gov or (202) 770-1856.

SUPPLEMENTARY INFORMATION:

Correction:

In the Federal Register on Tuesday, May 13, 2025, in FR Document Number 2025-08391, on page 20271, first column, correct the meeting time to: 8:00 a.m.-10:00 a.m. ChST (6:00 p.m.-8:00 p.m. ET).

Dated: May 16, 2025.
David Mussatt,
Supervisory Chief, Regional Programs Unit.

[FR Doc. 2025-09125 Filed 5-20-25; 8:45 am]

BILLING CODE P